DEPARTMENT OF COMMERCE

National Oceanic and Atmospheric Administration

Expansion of the New Hampshire Coastal Management Program Boundary; Availability of an Environmental Assessment and Proposed Finding of No Significant Impact

AGENCY: National Oceanic and Atmospheric Administration, U.S. Department of Commerce.

ACTION: Notice of availability of draft environmental assessment and request for comments.

SUMMARY: Notice is hereby given of the availability of the Draft Environmental Assessment (EA) and proposed Finding of No Significant Impact for the National Oceanic and Atmospheric Administration's (NOAA) approval of the State of New Hampshire request to expand its coastal management program boundary. The EA was prepared pursuant to the National Environmental Policy Act (NEPA) U.S.C. 4321 et seq. to assess the environmental impacts associated with the approval and implementation of an expanded coastal boundary for the New Hampshire Coastal Program (NHCP) submitted to NOAA by the State of New Hampshire. Pursuant to Section 306(g) of the Coastal Zone Management Act of 1972, as amended (CZMA) and NOAA's Office of Ocean and Coastal Resource Management (OCRM) regulations (15 CFR part 923, subpart H), OCRM is required to approve any amendment, modification, or other change to a State's federally-approved coastal management program. This includes changes in a State's coastal boundary. See 15 CFR part 923, subpart D.

For the purposes of this EA, the proposed action is approval of the proposed expanded NHCP coastal boundary to include the full geographic jurisdiction of the State's 17 coastal municipalities. The NHCP's boundary revision will expand the State's coastal management boundary from its current, narrower delineation by a two-tier geographical system related to distance from coastal waste body features, to encompassing the entire jurisdiction of all coastal municipalities. The practical effect will be to increase the State's ability to review State and federal activities in a larger area of the coast for their consistency with the State's federally-approved coastal policies, and to provide CZMA funds for additional activities in the expanded coastal area.

NOAA finds that the NHCP has met the requirements for submitting an amendment to OCRM and proposes to approve the program change. Based upon the EA, NOAA proposes to conclude that a Finding of No Significant Impact is appropriate, and therefore, an Environmental Impact Statement is unnecessary. The Council on Environmental Quality's regulations to implement NEPA requires agencies to provide public notice of the availability of environmental documents. 40 CFR section 1506.6. This notice is part of NOAA's action to comply with this requirement.

A copy of the Draft EA and proposed Finding of No Significant Impact may be found on the NOAA Web site at

http://www.ocrm.nos.noaa.gov.czm or may be obtained upon request from: Helen Farr, Coastal Programs Division (N/ORM3), Office of Ocean and Coastal Resource Management, NOS, NOAA, 1305 East-West Highway, Silver Spring, Maryland, 20910, phone: (301) 713-3155, x150, e-mail: helen.farr@noaa.gov.

DATES: Individuals or organizations wishing to submit comments on the Draft EA or proposed Finding of No Significant Impact should do so by November 24, 2003.

ADDRESSES: Comments should be made to: John King, Acting Chief, Coastal Programs Division (N/ORM3), Office of Ocean and Coastal Resource Management, NOS, NOAA, 1305 East-West Highway, Silver Spring, Maryland, 20910, phone: (301) 713-3155, x188, e-mail: john.king@noaa.gov.

FOR FURTHER INFORMATION CONTACT: Helen Farr, Coastal Programs Division (N/ORM3), Office of Ocean and Coastal Resource Management, NOS, NOAA, 1305 East-West Highway, Silver Spring, Maryland, 20910, phone: (301) 713-3155, x150, e-mail: helen.farr@noaa.gov.

(Federal Domestic Assistance Catalog 11.419 Coastal Zone Management Program Administration)

Richard W. Spinrad,
Assistant Administrator, Ocean Services and Coastal Zone Management, National Oceanic and Atmospheric Administration.

[FR Doc. 03-26783 Filed 10-22-03; 8:45 am]

BILLING CODE 3510-08-M